DEPARTMENT OF THE INTERIOR

National Park Service

[NPS-WASO-NAGPRA-NPS0030237; PPWOCRADN0-PCU00RP14.R50000]

Notice of Inventory Completion: University of the Pacific, Dugoni School of Dentistry, San Francisco, CA

AGENCY: National Park Service, Interior.

ACTION: Notice.

SUMMARY: The University of the Pacific, Dugoni School of Dentistry has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of the Pacific, Dugoni School of Dentistry. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of the Pacific, Dugoni School of Dentistry at the address in this notice by July 6, 2020.

ADDRESSES: Dorothy Dechant, Center for Dental History and Craniofacial Study, University of the Pacific, Dugoni School of Dentistry, 155 Fifth Street, San Francisco, CA 94103-2919, telephone (415) 929-6627, email ddechant@pacific.edu.

SUPPLEMENTARY INFORMATION: Notice is here given in accordance with the Native American Graves Protection and Repatriation Act (NAGPRA), 25 U.S.C. 3003, of the completion of an inventory of human remains under the control of the University of the Pacific, Dugoni School of Dentistry, San Francisco, CA. The human remains were removed from the SJO-91 Brown site in San Joaquin County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Center for Dental History and Craniofacial Study (CDHCS) professional staff at the University of the Pacific, Dugoni School of Dentistry in consultation with representatives of the Ione Band of Miwok Indians of California; Picayune Rancheria of the Chukchansi Indians of California; Santa Rosa Indian Community of the Santa Rosa Rancheria, California; Shingle Springs Band of Miwok Indians, Shingle Springs Rancheria (Verona Tract), California; Table Mountain Rancheria (previously listed as Table Mountain Rancheria of California); Tejon Indian Tribe; Tule River Indian Tribe of the Tule River Reservation, California; United Auburn Indian Community of the Auburn Rancheria of California; Wilton Rancheria, California; and the Northern Valley Yokut, a non-federally recognized Indian group. The Buena Vista Rancheria of Me-Wuk Indians of California; California Valley Miwok Tribe, California; Chicken Ranch Rancheria of Me-Wuk Indians of California; Jackson Band of Miwuk Indians (previously listed as Jackson Rancheria of Me-Wuk Indians of California); Tuolumne Band of Me-Wuk Indians of the Tuolumne Rancheria of California; as well as the Southern Sierra Miwuk Nation and the Tubatulabals of Kern Valley, California, non-federally recognized Indian groups, were invited but did not participate. Hereafter, all the above entities are referred to as “The Consulted Tribes and Groups.”

History and Description of the Remains

Sometime in 1970 or 1971, human remains representing, at minimum, six individuals were removed from CA-SJO-91 Brown Site on private property, in San Joaquin County, CA. Sometime between 1970 and 1989 these human remains were in the possession of Dr. John Stucky of Lodi, CA. Dr. Stucky had received these human remains from his neighbor who had been a construction superintendent for A. Teichert and Sons Construction. In 1989, on behalf of Dr. Stucky, these human remains were donated to the University of the Pacific School of Dentistry by Dr. Kenneth Holcombe, and accessioned into the school's Spencer R. Atkinson Library of Applied Anatomy skull collection. No known individuals were identified. No associated funerary objects are present.

In a 2004 Notice of Inventory Completion published in the Federal Register (69 FR 55454, September 14, 2004), the California Department of Parks and Recreation, Sacramento, CA, noted that CA-SJO-91 “lie(s) within Yokuts territory,” that the Yokuts “are today represented by three groups of living areas: the Northern Valley Yokuts, Southern Valley Yokuts, and Foothill Yokuts,” and that “(a)rchaeological, ethnographic, historical and oral historical evidence link the Northern Valley Yokuts to the present-day Picayune Rancheria of the Chukchansi Indians of California; Santa Rosa Indian Community of the Santa Rosa Rancheria, California; Table Mountain Rancheria of California; and Tule River Indian Tribe of the Tule River Reservation, California.”

In a 2011 Notice of Inventory Completion published in the Federal Register (76 FR 14055, March 15, 2011), the California State Department of Transportation (Caltrans), Sacramento, CA, and California State University, Sacramento, CA, noted that “historical and geographical lines of evidence indicate that CA-SJO-91 lies on the border of the traditional territory of the Plains Miwok and the Northern Valley Yokuts.”

Based on the above findings, as well as oral and documentary evidence presented during consultations, the University of the Pacific, Dugoni School of Dentistry, San Francisco (including the Center for Dental History and Craniofacial Study) reasonably believes that the cultural affiliation of CA-SJO-91 is to the Northern Valley Yokuts and Plains Miwok.

Determinations Made by the University of the Pacific, Dugoni School of Dentistry

Officials of the University of the Pacific, Dugoni School of Dentistry have determined that:

• Pursuant to 25 U.S.C. 3001(9), the human remains described in this notice represent the physical remains of six individuals of Native American ancestry.

• Pursuant to 25 U.S.C. 3001(2), there is a relationship of shared group identity that can be reasonably traced between the Native American human remains and the Buena Vista Rancheria of Me-Wuk Indians of California; California Valley Miwok Tribe, California; Chicken Ranch Rancheria of Me-Wuk Indians of California; Ione Band of Miwok Indians of California; Jackson Band of Miwuk Indians (previously listed as Jackson Rancheria of Me-Wuk Indians of California); Picayune Rancheria of the Chukchansi Indians of California; Santa Rosa Indian Community of the Santa Rosa Rancheria, California; Shingle Springs Band of Miwok Indians, Shingle Springs Rancheria (Verona Tract), California; Table Mountain Rancheria (previously listed as Table Mountain Rancheria of California); Tejon Indian Tribe; Tule River Indian Tribe of the Tule River Reservation, California; Tuolumne Band of Me-Wuk Indians of the Tuolumne Rancheria of California; United Auburn Indian Community of the Auburn Rancheria of California; and the Wilton Rancheria, California (hereafter referred to as “The Affiliated Tribes”).

Additional Requestors and Disposition

Lineal descendants or representatives of any Indian Tribe or Native Hawaiian organization not identified in this notice that wish to request transfer of control of these human remains should submit a written request with information in support of the request to Dorothy Dechant, University of the Pacific, Dugoni School of Dentistry, 155 Fifth Street, San Francisco, CA 94103-2919, telephone (415) 929-6627, email ddechant@pacific.edu, by July 6, 2020. After that date, if no additional requestors have come forward, transfer of control of the human remains to The Affiliated Tribes may proceed. If joined to a request from one or more of the Affiliated Tribes, the following non-federally recognized Indian groups may receive transfer of control of the human remains: The Northern Valley Yokut, and the Southern Sierra Miwuk Nation.

The University of the Pacific, Dugoni School of Dentistry is responsible for notifying The Consulted Tribes and Groups that this notice has been published.

Dated: April 23, 2020.
Melanie O'Brien,
Manager, National NAGPRA Program.

[FR Doc. 2020-11968 Filed 6-2-20; 8:45 am]

BILLING CODE 4312-52-P